DEPARTMENT OF ENERGY

Federal Energy Regulatory Commission

[Docket No. IC14-1-000]

Commission Information Collection Activities (FERC-555); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-555, Records Retention Requirements, to the Office of Management and Budget (OMB) for review of the information collection requirements. Any interested person may file comments directly with OMB and should address a copy of those comments to the Commission as explained below. The Commission issued a Notice in the Federal Register (78 FR 61983, 10/9/2013) requesting public comments. FERC received no comments on the FERC-555 and is making this notation in its submittal to OMB.

DATES: Comments on the collection of information are due by January 21, 2014.

ADDRESSES: Comments filed with OMB, identified by the OMB Control No. 1902-0098, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC14-1-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-555, Records Retention Requirements.

OMB Control No.: 1902-0098.

Type of Request: Three-year extension of the FERC-555 information collection requirements with no changes to the current reporting requirements.

Abstract: The Commission collects the information under the requirements of FERC-555 (Records Retention Requirements) to carry out its responsibilities in implementing the statutory provisions of Sections 301, 304 and 309 of the Federal Power Act (FPA),¹ Sections 8, 10 and 16 of the Natural Gas Act (NGA),² and Section 20 of the Interstate Commerce Act (ICA).³

¹ 16 U.S.C. 825, 825c and 825h.

² 15 U.S.C. 717-717w.

³ 49 U.S.C. 20.

The regulations for preservation of records establish retention periods, necessary guidelines, and requirements for retention of applicable records. These requirements apply to the regulated public utilities, natural gas and oil pipeline companies subject to the Commission's jurisdiction. Regulated entities use these records as the basis for required rate filings and reports to the Commission. Additionally, the Commission's audit staff will use the records during compliance reviews. The Commission's enforcement staff will also use the information during investigations. Finally, the Commission will use the records for special analyses when necessary.

On January 8, 1999 the Commission issued AI99-2-000, an Accounting Issuance providing guidance on records storage media. More specifically, the Commission gave each jurisdictional company the flexibility to select its own storage media. The storage media selected must have a life expectancy equal to the applicable record period unless the quality of the data transferred from one media to another with no loss of data would exceed the record period.

On January 27, 2000, the Commission issued a final rule amending its records retention regulations for public utilities and licensees as well as natural gas and oil pipeline companies. These changes included revising the general instructions, and shortening various records retention periods. The objective of the final rule was to reduce or eliminate burdensome and unnecessary regulatory requirements.

The Commission is not making any additional changes to the record retention requirements specified under FERC-555. The Commission implements these filing requirements in the Code of Federal Regulations (CFR) under 18 CFR Parts 125, 225, and 356.

Type of Respondents: Public utilities, natural gas companies, and oil companies.

Estimate of Annual Burden: ⁴ In 2010 Commission staff surveyed a small number of FERC-555 respondents in order to improve the burden estimates. We are using the same methodology here as in 2010. However, we are updating the figures due to current cost information and differences in the total number of respondents.

⁴ The Commission defines burden as the total time, effort, or financial resources expended by persons to generate, maintain, retain, or disclose or provide information to or for a Federal agency. For further explanation of what is included in the information collection burden, reference 5 Code of Federal Regulations 1320.3.

FERC-555—Preservation of Records for Public Utilities and Licenses, Natural Gas and Oil Pipeline Companies
Number of respondents | Number of responses per respondent | Total number of responses | Average burden hours per response | Estimated total annual burden
(A) | (B) | (A) × (B) = (C) | (D) | (C) × (D)
509 | 1 | 509 | 5,218 | 2,655,962

The total estimated annual cost burden to respondents is $154,949,271, which includes $78,242,971 for non-labor record storage costs and $76,706,300 for employee costs. The average cost per respondent is $304,419, which includes $153,719 for non-labor record storage costs and $150,700 for employee costs. All of these cost figures are based on staff analysis of the data we received in 2010.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 16, 2013.
Kimberly D. Bose,
Secretary.

[FR Doc. 2013-30319 Filed 12-19-13; 8:45 am]

BILLING CODE 6717-01-P